DEPARTMENT OF AGRICULTURE

Food Safety and Inspection Service

[Docket No. 01-017N]

Codex Alimentarius Commission: 24th Session of the Codex Alimentarius Commission (Codex)

AGENCY: Office of the Under Secretary for Food Safety, USDA.

ACTION: Notice of public meeting, request for comments.

SUMMARY: The Office of the Under Secretary for Food Safety, U.S. Department of Agriculture (USDA), is sponsoring a public meeting on June 6th, 2001.¹ The purpose of this meeting is to provide information and receive public comments on agenda items that will be discussed at the Twenty-fourth Session of the Codex Alimentarius Commission, which will be held in Geneva, Switzerland from July 2-7, 2001. The Under Secretary recognizes the importance of providing interested parties with information about the Codex Alimentarius Commission.

¹ FSIS is filing this notice for immediate public inspection on June 5, 2001 because FSIS was not able to publish notification in advance of this public meeting in the Federal Register due to late changes to the agenda.

DATES: The public meeting is scheduled for June 6, 2001, from 1 p.m. to 4 p.m.

ADDRESSES: The public meeting will be held in the Franklin-Adams Room at the Washington Plaza Hotel, 10 Thomas Circle, Washington, DC. 20005. To review copies of the documents referenced in this notice, contact the Food Safety and Inspection Service Docket Room, U.S. Department of Agriculture, Food Safety and Inspection Service, Room 102, Cotton Annex, 300 12th Street, SW, Washington, DC 20250-3700. The documents will also be accessible via the World Wide Web at the following address: http://www.codexalimentarius.net/cac24/docliste.htm. Submit one original and two copies of written comments to the FSIS Docket Room at the address above and reference docket number 01-017N. All comments submitted in response to this notice will be available for public inspection in the FSIS Docket Room between 8:30 a.m. and 4:30 p.m., Monday through Friday.

FOR FURTHER INFORMATION CONTACT: F. Edward Scarbrough, Ph.D., U.S. Manager for Codex Alimentarius, U.S. Codex Office, Food Safety and Inspection Service, Room 4861, South Building, 1400 Independence Avenue SW, Washington, DC 20250; Telephone (202) 205-7760, Fax: (202) 720-3157.

SUPPLEMENTARY INFORMATION:

Background

The Codex Alimentarius Commission (Codex) was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled. Codex meets biennially. The Executive Committee serves as the executive body of Codex between the biennial meetings.

The provisional agenda items and the relevant documents to be discussed during the public meeting are:

1. Election of Officers of the Commission and appointment of Regional Coordinators, Document ALINORM 01/2

2. Report by the Chairperson on the Forty-seventh and Forty-eighth Sessions of the Executive Committee, Documents ALINORM 01/3 and ALINORM 01/4

3. Report on the financial situation of the Joint FAO/WHO Food Standards Programme for 2000/01 and 2002/03, Document ALINORM 01/5

4. Report by the Secretariat on relations between the Codex Alimentarius Commission and, (a) Other international intergovernmental organizations Part I, (b) International non-governmental organizations Part II, Document ALINORM 01/8

5. Consideration of matters arising from FAO and WHO Conferences and Governing Bodies, Document ALINORM 01/7

6. Consideration of the Draft Strategic Framework, Proposed Draft Medium Term Plan 2003-2007 and Chairperson's Action Plan, Document ALINORM 01/6

7. Risk analysis policies of the Codex Alimentarius Commission, Document ALINORM 01/9

8. Consideration of proposed amendments to the Procedural Manual of the Codex Alimentarius Commission, Document ALINORM 01/10

9. Consideration of Codex standards and related texts, (a) Draft standards and related texts at Step 8 or equivalent Part I, (b) Proposed draft standards and related texts at Step 5 Part II, (c) Proposals to elaborate new standards and/or related texts Part III, Document ALINORM 01/21

10. Matters arising from reports of Codex Committees and Task Forces Part IV, Document ALINORM 01/21

11. Codex Committees and ad hoc Task Forces, (a) Designation of Host Governments Part I, (b) Proposed schedule of Codex Sessions 2002-2003, Document ALINORM 01/16

Public Meeting

At the June 6th public meeting, the agenda items will be described and discussed, and attendees will hear brief descriptions of the issues and will have the opportunity to pose questions and offer comments.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC on May 24, 2001.
F. Edward Scarbrough,
U.S. Manager for Codex Alimentarius.

[FR Doc. 01-14473 Filed 6-5-01; 1:59 pm]

BILLING CODE 3410-DM-P